DEPARTMENT OF STATE

[Public Notice: 9322]

California-Arizona Meeting of the Binational Bridges and Border Crossings Group in Washington, DC

AGENCY: Department of State.

ACTION: Notice.

SUMMARY: Delegates from the United States and Mexican Governments, the states of Arizona and California, and the Mexican states of Baja California and Sonora, will participate in the California-Arizona Meeting of the U.S.-Mexico Binational Bridges and Border Crossings Group on Wednesday, October 28, 2015 in Ensenada, Baja California, Mexico. The purpose of this meeting is to discuss operational matters involving existing and proposed international bridges and border crossings and their related infrastructure, and to exchange views on policy as well as technical information. This meeting includes a public session on Wednesday, October 28, 2015, from 9:00 a.m. until 10:15 a.m. This session allows proponents of proposed bridges and border crossings and related projects to make presentations to the delegations and members of the public.

FOR FURTHER INFORMATION CONTACT: For further information on the meeting and to attend the public session, please contact the Mexico Desk's Border Affairs Unit, via email at WHABorderAffairs@state.gov, by phone at 202-647-9895, or by mail at Office of Mexican Affairs—Room 3924, Department of State, 2201 C St. NW., Washington, DC 20520.

Dated: October 6, 2015.
Rachel M. Poynter,
Acting Director, Office of Mexican Affairs, Department of State.

[FR Doc. 2015-26773 Filed 10-20-15; 8:45 am]

BILLING CODE 4710-29-P